DEPARTMENT OF COMMERCE

National Oceanic and Atmospheric Administration

[I.D.021201B]

Fisheries of the Gulf of Mexico; Generic Amendment Addressing Essential Fish Habitat Requirements of the Fishery Management Plans of the Gulf of Mexico

AGENCY: National Marine Fisheries Service (NMFS), National Oceanic and Atmospheric Administration (NOAA), Commerce.

ACTION: Notice of intent to prepare a supplemental environmental impact statement (SEIS); request for comments.

SUMMARY: NMFS announces the intent of the Gulf of Mexico Fishery Management Council (Council) to prepare a SEIS for its Generic Amendment Addressing Essential Fish Habitat (EFH) Requirements of the Gulf of Mexico (EFH Generic Amendment). The SEIS would evaluate alternatives to the designation of EFH and habitat areas of particular concern (HAPCs) for the fisheries and fishery resources under the Council’s jurisdiction. The SEIS also would evaluate the environmental impacts associated with such EFH and HAPC designations and with measures needed to mitigate impacts related to both fishing and non-fishing activities. The purpose of this document is to solicit public comments on the scope of the issues to be addressed in the SEIS.

DATES: Written comments on the scope of the SEIS must be received on or before April 18, 2001.

ADDRESSES: Written comments on the scope of the SEIS and requests for additional information on the EFH Generic Amendment should be sent to Dr. Richard L. Leard, Deputy Executive Director, Gulf of Mexico Fishery Management Council, The Commons at Rivergate, 3018 U.S. Highway 301 North, Suite 1000, Tampa, Florida 33619-2266; phone: 813-228-2815; fax: 813-225-7015.

FOR FURTHER INFORMATION CONTACT: Richard Leard, Council staff contact, 813-228-2815, or Rickey Ruebsamen, NMFS staff contact, 727-570-5317.

SUPPLEMENTARY INFORMATION: In 1998, the Council completed its preparation of the EFH Generic Amendment that proposed appropriate amendments to all of the Council’s fishery management plans (FMPs) for the Gulf of Mexico. These FMPs are for the following fisheries or fishery resources: Coral reef resources; coastal migratory pelagics; red drum; reef fish; shrimp; spiny lobster; and stone crab. After conducting Secretarial review of the EFH Generic Amendment, NMFS partially approved it in 1999. NMFS published a notice of the agency decision on March 18, 1999 (52 FR 13363).

The Council prepared the EFH Generic Amendment in response to provisions of the Magnuson-Stevens Act, as amended by the Sustainable Fisheries Act of 1996, and 50 CFR 600.815 (guidelines regarding EFH and the contents of FMPs). The EFH Generic Amendment identified and described as EFH for species managed under the Council’s FMPs as those waters and substrate necessary to fish for spawning, breeding, feeding, or growth to maturity for species managed under the FMPs. Among other factors, the EFH Generic Amendment also identified threats to EFH from both fishing and non-fishing activities, evaluated conservation and enhancement opportunities, including the possibility of new fishery management measures, and specified HAPCs, which are especially important, sensitive, threatened, or rare subset areas of EFH.

NMFS and the Council, following the judicial decision in American Oceans Campaign v. Daley (Civil Action No. 99-982), now are proposing to prepare a SEIS for the EFH Generic Amendment that will supersede the environmental assessment (EA) previously prepared in support of this amendment. Since the EFH Generic Amendment amended the Council’s FMPs, the SEIS would supplement the original final environmental impact statement (FEIS) and any subsequent SEIS prepared for each of the Council’s FMPs. Consistent with the findings of the Court, the SEIS would identify and discuss relevant areas of concern, fully consider alternatives to the designation of EFH, and analyze the environmental impacts of the proposed action(s) and identified alternatives.

Alternatives that would be considered in the SEIS include, at a minimum, no action, the preferred alternative identified in the EFH Generic Amendment, and multiple alternatives to the description and identification of EFH and HAPCs for the managed fisheries. Action alternatives would evaluate, on the basis of the life stages of the managed fisheries, the description and identification of both larger and smaller EFH/HAPC areas than specified in the EFH Generic Amendment. Any adverse effects on EFH and HAPCs caused by fishing activities, as described in the SEIS, would form the basis for the identification of appropriate alternatives to minimize these effects to the extent practicable. These alternatives may include fishing gear restrictions, time or area closures, harvest limits, or other appropriate conservation practices. Other actions to encourage the conservation and enhancement of EFH and HAPCs also would be included.

The Council prepared the EFH Generic Amendment and associated EA in 1998 in consultation with NMFS, the National Ocean Service in NOAA, the Gulf States Marine Fisheries Commission, fishery agencies of the States of Texas, Louisiana, Mississippi, Alabama, and Florida, and representatives of a variety of fishing and non-fishing interests through the Council’s committees and advisory panels. The Council conducted eight public hearings in 1998 throughout the southeastern U.S. to solicit public input on the draft EFH Generic Amendment and draft EA. The Council also provided extensive opportunity for the submission of written public comments on the draft EFH Generic Amendment and draft EA. Information gathered through these previous outreach efforts, as well as future additional public comment, will be considered fully in preparing the SEIS.

On behalf of the Council, NMFS is requesting, by this notice, written comments on the scope of issues that should be addressed in the SEIS. Also, NMFS invites specific comment on the appropriate extent of EFH and HAPCs for Council-managed species and on the scientific basis for EFH and HAPC designations. NMFS also solicits any new information related to the impacts of fishing and non-fishing activities on EFH and HAPCs for fishery resources managed under the Council’s FMPs and to possible management measures that may mitigate adverse fishing impacts.

To provide additional opportunity for public comment on the issues to be considered in the SEIS, the Council intends to conduct public scoping meetings. Under the National Environmental Policy Act (NEPA) and regulations issued by the Council on Environmental Quality (CEQ) for implementing the procedural provisions of NEPA (40 CFR parts 1500-1508), scoping is an early and open process for determining the scope of issues to be addressed by an environmental impact statement and for identifying the significant issues related to the proposed action. The Council will provide advance notification of the dates, times, and places of any scheduled public scoping meetings through publication of an appropriate notice in the Federal Register as well as through mailings and newspaper notices. Such notifications will also indicate the availability of any scoping documents before or at the meetings.

Once the Council completes the draft SEIS, it will submit the document to NMFS for filing with the Environmental Protection Agency (EPA). EPA will then publish in the Federal Register a notice of availability of the draft SEIS for public comment during a 45-day period. The Council intends to conduct public hearings on the draft SEIS and will announce pertinent information about these hearings through notice in the Federal Register. The public review procedures for the draft SEIS will be pursuant to the CEQ regulations (see earlier reference) and to NOAA’s Administrative Order 216-6 regarding the agency’s implementation of NEPA.

Copies of the EFH Generic Amendment may be obtained by contacting the Council (see ADDRESSES above).

Authority: 16 U.S.C. 1801 et seq.

Dated: March 12, 2001.
Bruce C. Morehead,
Acting Director, Office of Sustainable Fisheries National Marine Fisheries Service.

[FR Doc. 01-6640 Filed 3-16-01; 8:45 am]

BILLING CODE 3510-22-S